DEPARTMENT OF LABOR

Employment and Training Administration

[TA-W-58,759]

Buckingham Galleries, New Hartford, CT; Affirmative Determinations for Worker Adjustment Assistance and Alternative Trade Adjustment Assistance; Correction

This notice rescinds the notice of certification of eligibility to apply for Alternative Trade Adjustment Assistance applicable to TA-W-58,759, which was published in the Federal Register on April 13, 2006 (71 FR 19208-19210) in FR Document E6-5518, Billing Code 4510-30-P.

This rescinds the certification of eligibility for workers of TA-W-58,759, to apply for Alternative Trade Adjustment Assistance and confirms eligibility to apply for Worker Adjustment Assistance as identified on page 19209 in the first column, the twelfth TA-W number listed.

The Department appropriately published in the Federal Register April 13, 2006, page 19210, under the notice of Negative Determinations for Alternative Trade Adjustment Assistance, the denial of eligibility applicable to workers of TA-W-58,759. The notice appears on page 19210 in the third column, the fourth TA-W- number listed.

Signed in Washington, DC, this 28th day of July 2006.
Erica R. Cantor
Director, Division of Trade Adjustment Assistance.

[FR Doc. E6-12616 Filed 8-3-06; 8:45 am]

BILLING CODE 4510-30-P